DEPARTMENT OF TRANSPORTATION

Federal Aviation Administration

14 CFR Part 95

[Docket No. 30318; Amdt. No. 436]

IFR Altitudes; Miscellaneous Amendments

AGENCY: Federal Aviation Administration (FAA), DOT.

ACTION: Final rule, correction.

SUMMARY: This amendment adopts miscellaneous amendments to the requirement IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, August 8, 2002.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 95 of the Federal Aviation Regulations (14 CFR part 95) amends; suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequency and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on June 28k, 2002.
James J. Ballough,
Director, Flight Standards Service.

Adoption of the Amendment

Accordingly, pursuant to the authority delegated to me by the Administrator, part 95 of the Federal Aviation Regulations (14 CFR part 95) is amended as follows effective at 0901 UTC, August 8, 2002.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 436, Effective Date: August 8, 2002; Final 06/24/2002]
From | To | MEA
§ 95.1001 Direct Routes—U.S.
Atlantic Route—A761 Is Added To Read
Downt, OA FIX | Etoca, AO FIX | 31000
Etoca, OA FIX | Foggs, AO FIX | 31000
Foggs, OA FIX | Galwy, AO FIX | 31000
Galwy, OA FIX | Hanri, AO FIX | 31000
Hanri, OA FIX | Perie, AO FIX | 31000
Perie, OA FIX | Satly, AO FIX | 31000
Satly, OA FIX | Torry, FL FIX | 31000
Atlantic Route—R511 Is Added To Read
Azezu, OA FIX | Cowri, AO FIX | 5500
Cowri, OA FIX | Foggs, AO FIX | 5500
Foggs, OA FIX | Eltee, AO FIX | 5500
Eltee, OA FIX | Odeal, AO FIX | 5500
Bahamas Route—G446 Is Added To Read
Oldey, SC FIX | Perie, AO FIX | 2500
Perie, OA FIX | Carps, FL FIX | 2500
Carps, FL FIX | Scoby, FL FIX | 2500
Scoby, FL FIX | Nucar, BS FIX | 2500
Nucar, BS FIX | Omaly, AO FIX | 5500
Omaly, OA FIX | Lasee, AO FIX | 5500
Lasee, OA FIX | Alute, AO FIX | 5500
Alute, OA FIX | Rinny, AO FIX | 5500
Rinny, OA FIX | Grand Turks, BS VORTAC | 5500
§ 95.6001 Victor Routes—U.S.
§ 95.6013 VOR Federal Airway 13 Is Amended To Read in Part
Ascot, TX FIX | Solon, TX FIX | *4000
*1300-MOCA
§ 95.6014 VOR Federal Airway 14 Is Amended To Read in Part
Chisum, NM VORTAC | Onsom, NM FIX E BND W BND | *7000 *7500
*6000-MOCA
Onsom, NM FIX | Winns, TX FIX | *8000
*6300-MOCA
Winns, TX FIX | Flatt, TX FIX | *8000
*5200-MOCA
Flatt, TX FIX | Shalo, TX FIX | 5100
§ 95.6020 VOR Federal Airway 20 Is Amended To Read in Part
Ascot, TX FIX | Solon, TX FIX | *4000
*1300-MOCA
§ 95.6040 VOR Federal Airway 49 Is Amended To Read in Part
Vulcan, AL VORTAC | *Bount, AL FIX | 3100
*4200-MRA
Bount, AL FIX | *Folso, AL FIX | **3100
*7000-MRA
**2400-MOCA
Folso, AL FIX | Decatur, AL VOR/DME | *3000
*2400-MOCA
Elked, AL FIX | Nashville, TN VORTAC | *3500
*2700-MOCA
Bowling Green, KY VORTAC | Mystic, KY VOR | 2700
§ 95.6105 VOR Federal Airway 105 Is Amended To Read in Part
Phoenix, AZ VORTAC | Karlo, AZ FIX | 10000
Karlo, AZ FIX | Drake, AZ VORTAC | *12000
*10000-MOCA
§ 95.6154 VOR Federal Airway 154 Is Amended To Read in Part
Ocone, GA FIX | Savannah, GA VORTAC | *3000
*1700-MOCA
§ 95.6157 VOR Federal Airway 157 Is Amended To Read in Part
Alma, GA VORTAC | Lotts, GA FIX | *4000
*1700-MOCA
Lotts, GA FIX | Allendale, SC VOR | *9000
*1700-MOCA
§ 95.6159 VOR Federal Airway 159 Is Amended To Read in Part
Cross City, FL VORTAC | Greenville, FL VORTAC | 2000
§ 95.6163 VOR Federal Airway 163 Is Amended To Read in Part
Brownsville, TX VORTAC | Manny, TX FIX | 1500
Manny, TX FIX | Ascot, TX FIX | *5000
*1500-MOCA
Ascott, TX FIX | Solon, TX FIX | *4000
*1300-MOCA
Yenns, TX FIX | San Antonio, TX FIX | *3000
*2500-MOCA
San Antonio, TX VORTAC | Slimm, TX FIX | *3500
*2900-MOCA
Slimm, TX FIX | Lampasas, TX VORTAC | *3500
*3000-MOCA
§ 95.6222 VOR Federay Airway 222 Is Amended To Read in Part
Lake Charles, LA VORTAC | Maxon, LA FIX | 2000
Lagrange, GA VORTAC | *Tiroe, GA FIX | 2600

From | To | MEA | MAA
§ 95.7001 Jet Routes
§ 95.7056 Jet Route No. 56 Is Amended To Read in Part
Wasatch, UT VORTAC | Hayden, CO VOR/DME | 25000 | 45000
§ 95.7058 Jet Route No. 58 Is Amended To Read in Part
Milford, UT VORTAC | Farmington, NM VORTAC | 33000 | 45000
§ 95.7086 Jet Route No. 86 Is Amended To Read in Part
Peach Springs, AZ VORTAC | Bavpe, AZ FIX | 18000 | 45000
Bavpe, AZ FIX | Winslow, AZ VORTAC | 18000 | 45000
§ 95.7180 Jet Route No. 180 Is Amended To Read in Part
Humble, TX VORTAC | Daisetta, TX FIX | 18000 | 45000
Daisetta, TX VORTAC | Cidor, LA FIX | 18000 | 45000
Cidor, LA FIX | Fosin, LA FIX | 19000 | 45000
Fosin, LA FIX | Sawmill, LA VOR/DME | 18000 | 45000
Sawmill, LA VOR/DME | Little Rock, AR VORTAC | 18000 | 45000
§ 95.7614 Jet Route No. 614 Is Amended To Read in Part
Sarasota, FL VORTAC | Lee County, FL VORTAC | 18000 | 45000
Lee County, FL VORTAC | Dolphin, FL VORTAC | 18000 | 45000
§ 95.7616 Jet Route No. 616 Is Amended To Read in Part
Sarasota, FL VORTAC | LaBelle, FL VORTAC | 18000 | 45000
LaBelle, FL VORTAC | Dolphin, FL VORTAC | 18000 | 45000

From | To | Changeover points: Distance | Changeover points: From
§ 95.8005 Jet Routes Changeover Points Airway Segment J-56 Is Amended To Modify Changeover Point
Wasatch, UT VORTAC | Hayden. CO VOR/DME | 66 | Wasatch
J-180 Is Amended To Modify Changeover Point
Sawmill, LA VOR/DME | Little Rock, AR VORTAC | 105 | Sawmill

[FR Doc. 02-16894 Filed 7-8-02; 8:45 am]

BILLING CODE 4910-13-M